DEPARTMENT OF COMMERCE

National Oceanic and Atmospheric Administration

50 CFR Part 679

[Docket No. 020718172-2303-02; I.D. 061203D]

Fisheries of the Exclusive Economic Zone Off Alaska; Chiniak Gully Research Area Opening for the Groundfish Trawl Fisheries of the Gulf of Alaska

AGENCY: National Marine Fisheries Service (NMFS), National Oceanic and Atmospheric Administration (NOAA), Commerce.

ACTION: Opening.

SUMMARY: The Administrator, Alaska Region, NMFS (Regional Administrator) is opening the Chiniak Gully Research Area in the Gulf of Alaska (GOA) to directed fishing for groundfish using trawl gear from August 1, 2003, through September 20, 2003. NMFS' Alaska Fisheries Science Center (AFSC) will not conduct research in this area in 2003. Therefore, the closure of the Chiniak Gully Research Area is not needed. This action is intended to relieve an unnecessary restriction on groundfish trawl fisheries and allow the optimum utilization of fishery resources, in accordance with the Magnuson-Stevens Fishery Conservation and Management Act (Magnuson-Stevens Act).

DATES: Effective 1200 hrs, Alaska local time (A.l.t.), August 1, 2003, through 2400 hrs, A.l.t., September 20, 2003.

ADDRESSES: Copies of the environmental assessment/regulatory impact review/final regulatory flexibility analysis (EA/RIR/FRFA) for the regulatory amendment to permit an investigation of the effect of commercial fishing on Walleye pollock distribution and abundance in localized areas off the east side of Kodiak Island, may be obtained from Alaska Region, NMFS, P.O. Box 21668, Juneau, AK 99802, Attn: Lori Durall.

FOR FURTHER INFORMATION CONTACT: Melanie Brown, Sustainable Fisheries Division, Alaska Region, 907-586-7228 or email at melanie.brown@noaa.gov.

SUPPLEMENTARY INFORMATION: NMFS manages the groundfish fishery in the GOA exclusive economic zone according to the Fishery Management Plan for Groundfish of the Gulf of Alaska (FMP) prepared by the North Pacific Fishery Management Council (Council) and approved by the Secretary of Commerce under authority of the Magnuson-Stevens Act. Regulations governing fishing by U.S. vessels in accordance with the FMP appear at subpart H of 50 CFR part 600 and 50 CFR part 679.

Background

In April 2001, the Council endorsed a research project proposed by the AFSC in the Chiniak Gully off Kodiak Island to determine the effect of pollock fisheries on pollock school dynamics and the likelihood of localized depletions of Steller sea lion pollock prey. The research project requires the closure of the Chiniak Gully Research Area to trawl fishing from August 1 to no later than September 20 in the years 2001 through 2004. The Chiniak Gully Research Area is described at 50 CFR 679.22(b)(3)(i). A detailed description of the research project is provided in the EA/RIR/FRFA. For copies of this document, please contact NMFS (see ADDRESSES). The trawl closure necessary for this research project was implemented by emergency interim rules in 2001 (66 FR 37167, July 17, 2001) and in 2002 (67 FR 956, January 8, 2002), and by final rule in 2003 (68 FR 204, January 2, 2003).

Pursuant to 50 CFR 679.22(b)(3)(ii)(B), the Regional Administrator may rescind the trawl closure of the Chiniak Gully Research Area by publishing notification in the Federal Register prior to September 20. Because the AFSC will not be conducting research in the Chiniak Gully Research Area in 2003, the Regional Administrator proposed to rescind the closure specified in 50 CFR 679.22(b)(3)(ii)(A), in a Federal Register notice published May 8, 2003 (68 FR 24668). The 2003 closure would unnecessarily restrict the trawl groundfish fisheries because no research will be conducted this year. Rescinding the 2003 trawl closure will allow vessels participating in groundfish trawl fisheries to harvest their total allowable catch amounts without the operational constraints imposed by the closure.

Two comments were received regarding the proposed rescission of the area closure. Both comments were in favor of rescinding the closure.

Classification

This action responds to the best available information recently obtained from the AFSC. Without this inseason adjustment, NMFS could not allow directed fishing for groundfish using trawl gear in the Chiniak Gully Research Area from August 1 through September 20, unnecessarily restricting the groundfish trawl fisheries.

This action is pursuant to 50 CFR 679.22 and is exempt from review under Executive Order 12866.

Authority: 16 U.S.C. 1801 et seq.

Dated: June 16, 2003.
Bruce C. Morehead,
Acting Director, Office of Sustainable Fisheries, National Marine Fisheries Service.

[FR Doc. 03-15804 Filed 6-20-03; 8:45 am]

BILLING CODE 3510-22-S